DEPARTMENT OF THE INTERIOR

Fish and Wildlife Service

[FWS-R4-ES-2015-N132;FXES11130400000EA-123-FF04EF1000]

Endangered and Threatened Wildlife and Plants; Availability of Proposed Low-Effect Habitat Conservation Plans, Lake, Volusia, and Brevard County, FL

AGENCY: Fish and Wildlife Service, Interior.

ACTION: Notice of availability; request for comment/information.

SUMMARY: We, the Fish and Wildlife Service (Service), have received three applications for incidental take permits (ITPs) under the Endangered Species Act of 1973, as amended (Act). Lake County Board of County Commissioners requests a 5-year ITP; Property Investment Brokers requests a 10-year ITP; and Casabella Development, LLC requests a 5-year ITP. We request public comment on the permit applications and accompanying proposed habitat conservation plans (HCPs), as well as on our preliminary determination that the plans qualify as low-effect under the National Environmental Policy Act (NEPA). To make this determination, we used our environmental action statement and low-effect screening form, which are also available for review.

DATES: To ensure consideration, please send your written comments by August 24, 2015.

ADDRESSES: If you wish to review the applications and HCPs, you may request documents by email, U.S. mail, or phone (see below). These documents are also available for public inspection by appointment during normal business hours at the office below. Send your comments or requests by any one of the following methods.

Email: northflorida@fws.gov. Use “Attn: Permit number TE71097B-0” as your message subject line for Lake County Board of County Commissioners; “Attn: Permit number TE71095B-0” for Property Investment Brokers; and “Attn: Permit number TE71098B-0” for Casabella Development, LLC.

Fax: Field Supervisor, (904) 731-3191, Attn: Permit number [Insert permit number].

U.S. mail: Field Supervisor, Jacksonville Ecological Services Field Office, Attn: Permit number [Insert permit number], U.S. Fish and Wildlife Service, 7915 Baymeadows Way, Suite 200, Jacksonville, FL 32256.

In-person drop-off: You may drop off information during regular business hours at the above office address.

FOR FURTHER INFORMATION CONTACT: Erin M. Gawera, telephone: (904) 731-3121; email: erin_gawera@fws.gov.

SUPPLEMENTARY INFORMATION:

Background

Section 9 of the Act (16 U.S.C. 1531 et seq.) and our implementing Federal regulations in the Code of Federal Regulations (CFR) at 50 CFR part 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take—i.e., take that is incidental to, and not the purpose of, the carrying out of an otherwise lawful activity.

Regulations governing incidental take permits for threatened and endangered species are at 50 CFR 17.32 and 17.22, respectively. The Act's take prohibitions do not apply to federally listed plants on private lands unless such take would violate State law. In addition to meeting other criteria, an incidental take permit's proposed actions must not jeopardize the existence of federally listed fish, wildlife, or plants.

Applicants' Proposals

Lake County Board of County Commissioners

Lake County Board of County Commissioners is requesting take of approximately 1.08 ac of occupied sand skink foraging and sheltering habitat incidental to construction of a fire station, and they seek a 5-year permit. The 6.38-ac project is located on parcel numbers 09-22-26-110003900000, 09-22-26-110003800000, and 09-22-26-110003800002 within Section 26, Township 22 South, and Range 26 East, Lake County, Florida. The project includes construction of a fire station and the associated infrastructure, and landscaping. The applicant proposes to mitigate for the take of the sand skink by the purchase of 2.16 mitigation credits within the Hatchineha Conservation Bank.

Property Investment Brokers

Property Investment Brokers is requesting take of approximately 1 ac of occupied Florida scrub-jay foraging and sheltering habitat incidental to construction of an access road and stormwater pond, and they seek a 10-year permit. The 36.38-ac project is located on parcel numbers 06183104000410, 06183106080010, 06183106080070, 06183104000460, 06183104000320, 06183104000540, 06183105060010, 06183105070250, 06183105070010, 06183105080390, 06183105080350, 06183105080310, 06183105080250, 06183105080120, 06183105080200, 06183105090010, 06183105100120, 06183105100140, 06183105100200, 06183106050010, 06183106050070, 06183106050210, 06183106040300, 06183106040240, 06183106070420, 06183106040180, 06183106070010, 06183106070011, 06183106040010, 06183106040090, 06183106030260, 06183106030240, 06183106080410, 06183106080010, 06183106080070 within Section 6, Township 18 South, and Range 31 East, Volusia County, Florida. The project includes construction of an access road and stormwater pond and the associated infrastructure, and landscaping. The applicant proposes to mitigate for the take of the Florida scrub-jay through the deposit of funds in the amount of $30,654.00 to the Nature Conservancy's Conservation Fund, for the management and conservation of the Florida scrub-jay based on Service Mitigation Guidelines.

Casabella Development, LLC

Casabella Development, LLC is requesting take of approximately 1.50 ac of occupied Florida scrub-jay foraging and sheltering habitat incidental to construction of a residential development, and they seek a 5-year permit. The 12.64-ac project is located on parcel number 26-36-24-00-00018.0-0000.00 within Section 31, Township 26 South, and Range 37 East, Brevard County, Florida. The project includes construction of a residential development and the associated infrastructure, and landscaping. The applicant proposes to mitigate for the take of the Florida scrub-jay through the preservation of approximately 3.47 acres of high-quality Florida scrub-jay habitat within the Valkaria Site of the Brevard Coastal Scrub Ecosystem. The Applicant will preserve and donate two currently unencumbered parcels (Brevard County tax account numbers 2952135 and 2400680) to the Brevard County Environmentally Endangered Lands (EEL) Program so that these parcels can be managed and maintained as suitable Florida scrub-jay habitat in perpetuity. The Applicant will also provide the EEL Program with a $1,200.00/acre (totaling $ 4,164.00) management endowment to ensure the continued success of monitoring and maintaining these lands as suitable Florida scrub-jay habitat.

Our Preliminary Determination

We have determined that the applicants' proposals, including the proposed mitigation and minimization measures, would have minor or negligible effects on the species covered in their HCPs. Therefore, we determined that the ITPs for each of the applicants are “low-effect” projects and qualify for categorical exclusion under the National Environmental Policy Act (NEPA), as provided by the Department of the Interior Manual (516 DM 2 Appendix 1 and 516 DM 6 Appendix 1). A low-effect HCP is one involving (1) Minor or negligible effects on federally listed or candidate species and their habitats, and (2) minor or negligible effects on other environmental values or resources.

Next Steps

We will evaluate the HCPs and comments we receive to determine whether the ITP applications meet the requirements of section 10(a) of the Act (16 U.S.C. 1531 et seq.). If we determine that the applications meet these requirements, we will issue ITP numbers TE71097B-0, TE71095B-0, and TE71098B-0. We will also evaluate whether issuance of the section 10(a)(1)(B) ITPs complies with section 7 of the Act by conducting an intra-Service section 7 consultation. We will use the results of this consultation, in combination with the above findings, in our final analysis to determine whether or not to issue the ITPs. If the requirements are met, we will issue the permits to the applicants.

Public Comments

If you wish to comment on the permit applications, HCPs, and associated documents, you may submit comments by any one of the methods in ADDRESSES.

Public Availability of Comments

Before including your address, phone number, email address, or other personal identifying information in your comments, you should be aware that your entire comment—including your personal identifying information—may be made publicly available at any time. While you can ask us in your comment to withhold your personal identifying information from public review, we cannot guarantee that we will be able to do so.

Authority

We provide this notice under Section 10 of the Act and NEPA regulations (40 CFR 1506.6).

Dated: July 16, 2015.
Jay B. Herrington,
Field Supervisor, Jacksonville Field Office, Southeast Region.

[FR Doc. 2015-18045 Filed 7-22-15; 8:45 am]

BILLING CODE 4310-55-P